GENERAL SERVICES ADMINISTRATION

Federal Travel Regulation (FTR)

Fly America Act; United States and European Union “Open Skies” Air Transport Agreement (US-EU Open Skies Agreement)

AGENCY: Office of Governmentwide Policy, General Services Administration (GSA).

ACTION: Notice of FTR Bulletin 11-02, revising Fly America Act air transport agreement between US and EU.

SUMMARY: The General Services Administration (GSA) has issued FTR Bulletin 11-02, updating the Fly America Act information on the GSA web site with recent changes to the new US-EU Open Skies agreement signed June 24, 2010.

DATES: Effective Date: This final rule is effective November 10, 2010.

Applicability Date: This final rule is applicable for travel performed on and after October 1, 2010.

FOR FURTHER INFORMATION CONTACT: For clarification of content, contact Rick Miller, Office of Governmentwide Policy, at (202) 501-3822. Please cite FTR Bulletin 11-02.

Dated: November 3, 2010.
Janet Dobbs,
Acting Deputy Associate Administrator.

[FR Doc. 2010-28425 Filed 11-9-10; 8:45 am]

BILLING CODE 6820-14-P